ENVIRONMENTAL PROTECTION AGENCY

[FRL-7854-4]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1630.08, Oil Pollution Act Facility Response Plan Requirements; in 40 CFR 112.20 and 112.21; was approved 11/30/2004; OMB Number 2050-0135; expires 11/30/2007.

EPA ICR No. 1949.03; Implementation of Incentives Designed for EPA's National Environmental Performance Track Program (Final Rule); was approved 11/12/2004; OMB Number 2010-0032; expires 08/31/2006.

EPA ICR No. 2156.01; Mobile Source Emission Factors; Populations, Usage and Emissions of Diesel Nonroad Equipment in EPA Region 7 (Survey); was approved 11/18/2004; OMB Number 2060-0553; expires 11/30/2007.

EPA ICR No. 1158.08; NSPS for Rubber Tire Manufacturing; was approved 11/17/2004; in 40 CFR part 60, subpart BBB; OMB Number 2060-0156; expires 11/30/2007.

EPA ICR No. 1078.07; NSPS for Phosphate Rock Plants; was approved 11/18/2004; in 40 CFR part 60, subpart NN; OMB Number 2060-0111; expires 11/30/2007.

EPA ICR No. 2020.02; Federal Implementation Plans under the Clean Air Act for Indian Reservations in Idaho, Oregon, and Washington; was approved 11/16/2004; in 40 CFR part 49, subpart M; OMB Numbers 2060-0558; expires 11/30/2007.

EPA ICR No. 2002.03; Cross-Media Electronic Reporting and Recordkeeping Rule (Final Rule); was approved 11/18/2004; in 40 CFR 3.1000, 40 CFR 3.2000; OMB Number 2025-0003; expires 11/30/2007.

EPA ICR No. 0193.08; NESHAP for Beryllium; was approved 12/06/2004; in 40 CFR part 61, subpart C; OMB Number 2060-0092; expires 12/31/2007.

EPA ICR No. 1080.11; NESHAP for Benzene Emissions From Coke By-Product Recovery Plants; was approved 12/06/2004; in 40 CFR part 61, subpart L; OMB Number 2060-0185; expires 12/31/2007.

EPA ICR No. 1941.03; Evaluation of PrintSTEP (Renewal); was approved 12/08/2004; OMB Number 2020-0023; expires 04/30/2006.

EPA ICR No. 1564.06; NSPS for Small Industrial-Commercial-Institutional Steam Generating Units; was approved 11/09/2004; in 40 CFR part 60, subpart Dc; OMB Number 2060-0202; expires 11/30/2007.

EPA ICR No. 1698.05; Reporting and Recordkeeping Requirements Under EPA's Waste Wise Program; was approved 12/06/2004; OMB Number 2050-0139; expires 11/30/2005.

EPA ICR No. 1730.04; NSPS for Hospital/Medical/Infectious Waste Incinerators; in 40 CFR part 60, subpart Ec; OMB Number 2060-0363; expires 12/31/2007.

EPA ICR No. 1676.04; Clean Air Act Tribal Authority; was approved 12/09/2004; OMB Number 2060-0306; expires 12/31/2007.

Short Term Extensions

EPA ICR No. 1663.03; Information Collection Request Update Compliance Assurance Monitoring Program; in 40 CFR part 64; OMB Number 2060-0376; on 11/17/2004 OMB extended the expiration date to 02/28/2005.

EPA ICR No. 1639.04; National Pollutant Discharge Elimination System Great Lakes Water Quality Guidance; OMB Number 2040-0180; on 11/18/2004 OMB extended the expiration date to 02/28/2005.

EPA ICR No. 1973.02; Cooling Water Intake Structures New Facility Final Rule; OMB Number 2040-0241; on 11/18/2004; OMB extended the expiration date to 02/28/2005.

EPA ICR No. 1944.02; Information Collection Request for Baseline Standards and Best Management Practices for the Coal Mining Point Source Category; in 40 CFR part 434; OMB Number 2040-0239; on 11/18/2004 OMB extended the expiration date to 02/28/2005.

EPA ICR No. 1725.03; Marine Engine Manufacturer Production Line Testing Reporting and Recordkeeping Requirements; in 40 CFR part 91; OMB Number 2060-0323; on 12/06/2004 OMB extended the expiration date to 03/31/2005.

EPA ICR No. 0107.07; Source Compliance and State Action Reporting; OMB Number 2060-0096; on 12/07/2004 OMB extended the expiration date to 02/28/2005.

EPA ICR No. 1922.02; Storage, Treatment, Transportation, and Disposal of Mixed Waste (Final Rule); OMB Number 2060-0181; on 11/16/2004; OMB extended the expiration date to 02/28/2005.

Comment Filed

EPA ICR No. 2144.01; Standards and Practices for All Appropriate Inquires (Proposed Rule); on 11/15/2004 OMB filed a comment.

Withdrawn

EPA ICR No. 2053.01; Best Workplaces for Commuter Program (Survey); on 12/02/2004 was withdrawn from OMB.

EPA ICR No. 2151.01; Obtaining Feedback on Pubic Involvement Activities and Processes; on 12/03/2004 was withdrawn from OMB.

Dated: December 14, 2004.
Oscar Morales,
Director, Collection Strategies Division.

[FR Doc. 04-28091 Filed 12-22-04; 8:45 am]

BILLING CODE 6560-50-P